DEPARTMENT OF COMMERCE

National Oceanic and Atmospheric Administration

50 CFR Parts 223 and 224

[I.D. 053102A]

Listing Endangered and Threatened Wildlife and Plants and Designating Critical Habitat; Public Scoping Meetings on a Petition to List Atlantic White Marlin (Tetrapturus albidus)

AGENCY: National Marine Fisheries Service (NMFS), National Oceanic and Atmospheric Administration (NOAA), Commerce.

ACTION: Notice of scoping meetings.

SUMMARY: NMFS will hold 11 public scoping meetings to receive data and comments regarding the status of the Atlantic white marlin.

DATES: See SUPPLEMENTARY INFORMATION section for meeting dates.

ADDRESSES: See SUPPLEMENTARY INFORMATION section for meeting addresses.

FOR FURTHER INFORMATION CONTACT: David Bernhart, 727-570-5312; or David O’Brien, 301-713-1401;

SUPPLEMENTARY INFORMATION: NMFS is conducting a status review of Atlantic white marlin to determine whether this species should be provided protection under the Endangered Species Act of 1973 (ESA). Status reviews are required by section 4(b)(3)(A) of the ESA, whenever a listing petition for a species is found to present substantial information indicating that the petitioned action may be warranted. On September 4, 2001, NMFS received a petition from the Biodiversity Legal Foundation (BLF) and James R. Chambers to list Atlantic white marlin as threatened or endangered throughout its known range, and to designate critical habitat under the ESA. On December 20, 2001, NMFS found that the petition presented substantial information indicating that the petitioned action may be warranted and announced initiation of a status review (66 FR 65676). NMFS also solicited information and comments on whether the Atlantic white marlin is endangered or threatened based on the ESA listing criteria, during a 60-day comment period.

NMFS′ status review for white marlin is currently underway. Within 1 year of the receipt of the petition (by September 3, 2002), a finding will be made as to whether listing the Atlantic population of the white marlin as threatened or endangered is warranted, as required by section 4(b)(3)(B) of the ESA. Under section 4(a)(1) of the ESA, a species can be determined to be threatened or endangered for any one of the following reasons: (1) Present or threatened destruction, modification, or curtailment of habitat or range; (2) over-utilization for commercial, recreational, scientific, or educational purposes; (3) disease or predation; (4) inadequacy of existing regulatory mechanisms; or (5) other natural or manmade factors affecting its continued existence. If listing is found to be warranted for the white marlin, NMFS would publish a proposed rule and take public comment before taking any final action on listing.

To maximize public involvement in the status review and to ensure that NMFS receives the best available commercial and scientific data for its listing determination, NMFS will hold 11 public scoping meetings to receive additional data and comments on the status of Atlantic white marlin and the applicability of the ESA’s listing factors to Atlantic white marlin.

Meeting Dates, Times, and Locations

The public scoping meeting schedule is as follows:

Tuesday, June 11, 2002, Silver Spring, MD, 7-9 p.m.—Hilton Silver Spring, 8727 Colesville Road, Silver Spring, MD 20910; 301-589-5200

Monday, June 17, 2002, Miami, FL, 7-9 p.m.—Sheraton Biscayne Bay Hotel, 495 Brickell Avenue, Miami, FL 33131; 305-373-6000

Tuesday, June 18, 2002, Kenner, LA, 7-9 p.m.—Hilton New Orleans Airport, 901 Airline Highway, Kenner, LA 70062; 504-469-5000

Wednesday, June 19, 2002, Panama City Beach, FL, 7-9 p.m.—Marriott Bay Point Resort Village, 4200 Marriott Drive, Panama City Beach, FL 32408; 850-236-6000

Thursday, June 20, 2002, Orange Beach, AL, 7-9 p.m.—Perdido Beach Resort, 27200 Perdido Beach Blvd., Orange Beach, AL 36561; 251-981-9811

Monday, June 24, 2002, Charlotte Amalie, St. Thomas, USVI, 7-9 p.m.—Island Beach Comber Hotel, Lindbergh Beach Road, Charlotte Amalie, St. Thomas, USVI 00802; 340-774-5250

Monday, June 24, 2002, Atlantic Beach, NC, 7:30-9:30 p.m.—Sheraton Atlantic Beach Oceanfront Hotel, 2717 West Fort Macon Road, Atlantic Beach, NC 28512; 252-240-1155

Tuesday, June 25, 2002, Manteo, NC, 7:30-9:30 p.m.—North Carolina Aquarium Roanoke Island, 374 Airport Road, Manteo, NC 27954; 252-473-3496

Thursday, June 27, 2002, Atlantic City, NJ, 7-9 p.m.—Atlantic City Center, 1535 Bacharach Blvd., Atlantic City, NJ 08401; 609-343-4801

Thursday, June 27, 2002, Fairhaven, MA, 7-9 p.m.—The Harborfront Center, 110 Middle Street, Fairhaven, MA 02719; 508- 997-1281

Friday, June 28, 2002, Berlin, MD, 7- 9 p.m.—Ocean Pines Library, 11107 Cathell Road, Berlin, MD 21811; 410- 208- 4014

Special Accommodations

These public hearings are physically accessible to people with disabilities. Requests for sign language interpretation or other auxiliary aids should be directed to David Bernhart (see FOR FURTHER INFORMATION CONTACT).

Dated: June 3, 2002.
David Cottingham,
Deputy Director, Office of Protected Resources, National Marine Fisheries Service.

[FR Doc. 02-14363 Filed 6-6-02; 8:45 am]

BILLING CODE 3510-22-S